ENVIRONMENTAL PROTECTION AGENCY

40 CFR Part 52

[EPA-R05-OAR-2009-0695; FRL-9635-3]

Approval and Promulgation of Implementation Plans; Wisconsin; Volatile Organic Compound Emission Control Measures for Milwaukee and Sheboygan Ozone Nonattainment Areas

AGENCY: Environmental Protection Agency (EPA).

ACTION: Proposed rule.

SUMMARY: On September 1, 2009, November 16, 2011, and January 26, 2012, the Wisconsin Department of Natural Resources (WDNR) submitted several volatile organic compound (VOC) rules for approval into its State Implementation Plan (SIP). The purpose of these rules is to satisfy the Clean Air Act's (the Act) requirement that states revise their SIPs to include reasonably available control technology (RACT) for sources of VOC emissions in moderate ozone nonattainment areas. Wisconsin's VOC rules provide RACT requirements for the Milwaukee-Racine and Sheboygan 8-hour ozone nonattainment areas. These rules are approvable because they are consistent with the Control Technique Guideline (CTG) documents issued by EPA in 2006 and 2007 and satisfy the RACT requirements of the Act.

DATES: Comments must be received on or before March 23, 2012.

ADDRESSES: Submit your comments, identified by Docket ID No. EPA-R05-OAR-2009-0695, by one of the following methods:

• www.regulations.gov: Follow the on-line instructions for submitting comments.

• Email: aburano.douglas@epa.gov.

• Fax: (312) 408-2279.

• Mail: Douglas Aburano, Chief, Attainment Planning and Maintenance Section (AR-18J), U.S. Environmental Protection Agency, 77 West Jackson Boulevard, Chicago, Illinois 60604.

• Hand Delivery: Douglas Aburano, Chief, Attainment Planning and Maintenance Section (AR-18J), U.S. Environmental Protection Agency, 77 West Jackson Boulevard, 18th floor, Chicago, Illinois 60604. Such deliveries are only accepted during the Regional Office's normal hours of operation, and special arrangements should be made for deliveries of boxed information. The Regional Office official hours of business are Monday through Friday, 8:30 a.m. to 4:30 p.m., excluding Federal holidays.

Instructions: Direct your comments to Docket ID No. EPA-R05-OAR-2009-0695. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional instructions on submitting comments, go to Section I of the SUPPLEMENTARY INFORMATION section of this document.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Environmental Protection Agency, Region 5, Air and Radiation Division, 77 West Jackson Boulevard, Chicago, Illinois 60604. This facility is open from 8:30 AM to 4:30 PM, Monday through Friday, excluding federal holidays. We recommend that you telephone Steven Rosenthal at (312) 886-6052 before visiting the Region 5 office.

FOR FURTHER INFORMATION CONTACT: Steven Rosenthal, Environmental Engineer, Attainment Planning & Maintenance Section, Air Programs Branch (AR-18J), U.S. Environmental Protection Agency, Region 5, 77 West Jackson Boulevard, Chicago, Illinois 60604, (312) 886-6052, rosenthal.steven@epa.gov.

SUPPLEMENTARY INFORMATION: Throughout this document whenever “we,” “us,” or “our” is used, we mean EPA. This SUPPLEMENTARY INFORMATION section is arranged as follows:

I. What should I consider as I prepare my comments for EPA?

II. What action is EPA taking today?

III. What is the purpose of this action?

IV. What is EPA's analysis of Wisconsin's submitted VOC rules?

V. Statutory and Executive Order Reviews

I. What should I consider as I prepare my comments for EPA?

When submitting comments, remember to:

1. Identify the rulemaking by docket number and other identifying information (subject heading, Federal Register date, and page number).

2. Follow directions—The EPA may ask you to respond to specific questions or organize comments by referencing a Code of Federal Regulations (CFR) part or section number.

3. Explain why you agree or disagree; suggest alternatives and substitute language for your requested changes.

4. Describe any assumptions and provide any technical information and/or data that you used.

5. If you estimate potential costs or burdens, explain how you arrived at your estimate in sufficient detail to allow for it to be reproduced.

6. Provide specific examples to illustrate your concerns, and suggest alternatives.

7. Explain your views as clearly as possible, avoiding the use of profanity or personal threats.

8. Make sure to submit your comments by the comment period deadline identified.

II. What action is EPA taking today?

EPA is proposing to approve into the Wisconsin SIP several new and revised VOC rules which set out RACT requirements for categories of VOC sources in two ozone nonattainment areas. These rules correspond to and are consistent with the source categories and control recommendations in the CTGs issued by EPA in 2006 and 2007, as well as EPA RACT guidance for earlier CTGs and source categories not covered by a CTG. Wisconsin adopted new or revised rules for industrial cleaning solvents, flat wood paneling coatings, flexible packaging printing materials, lithographic printing materials, letterpress printing materials, paper, film and foil coatings, metal furniture coatings, large appliance coatings, industrial wastewater collection and treatment operations, and reactor processes and distillation operations in the synthetic organic chemical manufacturing industry (SOCMI).

III. What is the purpose of this action?

The primary purpose of these rules is to satisfy the requirement in section 182(b) of the Act that VOC RACT rules be adopted in nonattainment areas for the source categories covered by the CTG documents issued by EPA in 2006 and 2007. These rule revisions also include previously required SOCMI air oxidation, distillation and reactor regulations as well as an industrial wastewater rule that is required because industrial wastewater is a major non-CTG category for which RACT rules are required. The Milwaukee-Racine and Sheboygan 8-hour ozone nonattainment areas are classified as moderate nonattainment for the 8-hour ozone national ambient air quality standard. See 40 CFR 81.31 and 81.314. According to EPA policy, Wisconsin does not need to adopt rules for the source categories covered by the CTGs issued on September 30, 2008, because it submitted a complete 8-hour ozone redesignation request (on September 11, 2009) before September 30, 2009, the date upon which rules consistent with these CTGs were required (according to section 182(b)) to be adopted and submitted as SIP revisions.

Section 182(b)(2) of the Act requires that, for areas classified as moderate or above for ozone nonattainment, states must revise their SIPs to adopt RACT requirements for VOC sources that are covered by CTGs. RACT is defined as the lowest emissions limitation that a particular source is capable of meeting by the application of control technology that is reasonably available considering technological and economic feasibility (44 FR 53762; September 17, 1979). CTGs are documents issued by EPA to provide states with the EPA's recommendation on how to control the emissions of VOC from a specific type of product or source category in an ozone nonattainment area. A CTG provides information on determining RACT for a source category, including recommendations on control options and enforcement provisions for the category.

IV. What is EPA's analysis of Wisconsin's submitted VOC rules?

EPA has reviewed Wisconsin's new and revised VOC rules for the source categories covered by the 2006 and 2007 CTGs, as well as corrections to rules that were required to be submitted to EPA on September 15, 2006, and proposes to find that these rules are consistent with the control measures, definitions, recordkeeping and test methods in these CTGs and applicable EPA RACT guidance at www.epa.gov/ttn/naaqs/ozone/ozonetech/#ref. Therefore EPA is proposing to approve these rules as meeting the RACT requirements in the Act. A brief discussion of these rules follows.

NR 400.02 (54m)—Definitions

A reference to digital printing has been added to Wisconsin's printing regulations. This definition of “digital printing” is approvable because it is a necessary update to the definition and accurately describes digital printing.

NR 419.045—Industrial Wastewater Operations

This new rule applies to sources that have potential VOC emissions greater than or equal to 100 tons per year from industrial wastewater operations and any other non-CTG source category without a final CTG, such as batch operations. The VOC emissions from industrial wastewater collection and treatment processes evaporate from the waste stream when exposed to the ambient air. Consequently, the VOC RACT requirements consist of implementing technologies and work practice standards that combine to substantially suppress the exposure of the VOC-laden waste stream to the ambient air. More specifically, the requirements include:

(1) Oil-water separators must be provided with either a floating cover equipped with seals or a fixed cover, equipped with a closed vent system vented to a pollution control device;

(2) Each surface impoundment must: (1) Be equipped with a cover or closed vent system which routs the VOCs to a control device or (2) be equipped with a floating flexible membrane cover;

(3) All process drains must be equipped with (1) a water seal or a tightly fitting cap or plug or (2) a cover, and if the cover is vented, the vapors must be routed to a process or through a closed vent system to a control device; and

(4) All junction boxes must be equipped with a tightly fitting solid cover or vented to a process or to a control device.

Also, several definitions have been added to NR 419.02 to clarify the requirements in NR 419.045. These definitions are approvable because they are necessary for implementation of the wastewater rule and they accurately describe the terms that are being defined.

This rule is based on and is consistent with EPA's 1992 draft CTG “Control of VOC Emissions from Industrial Wastewater” and EPA's 1994 “Industrial Wastewater Act.”

NR 420.02 (31)—The definition of “Reid vapor pressure” was amended to refer to the appropriate ASTM method.

NR 421—Control of Organic Emissions From Chemical, Coatings, and Rubber Products Manufacturing

As discussed previously, Wisconsin is required to develop industrial cleaning solvent regulations consistent with EPA's 2006 Industrial Cleaning Solvent CTG. Some of these cleaning solvent requirements are contained within source category specific rules and some are contained within a general cleaning solvent regulation (NR 423.037).

Wisconsin has adopted similar cleaning solvent requirements for synthetic resin manufacturing (NR 421.05) and coatings manufacturing (NR 421.06). These requirements are based on the (California) Bay Area Air Quality Management District's rules, which are referenced in EPA's CTG. These requirements apply to cleaning mixing vats, high dispersion mills, grinding mills, tote tanks and roller mills and consist of four options: (1) The solvent or solvent solution used must either contain less than 1.67 pounds VOC per gallon or have a VOC composite partial vapor pressure of less than or equal to 8 millimeters (mm) of mercury (Hg) and the solvent or solvent solution must be collected and stored in closed containers, or (2) several work practices must be implemented, including storing all VOC-containing cleaning materials in closed containers, or (3) the emissions from equipment cleaning must be collected and vented to an emission control system with an overall control efficiency of 80 percent or more on a mass basis, or (4) no more than 60 gallons of virgin solvent per month may be used. In addition, the owner or operator of a facility engaged in wipe cleaning may not use open containers for the storage of solvent or solvent solution used for cleaning or for the storage or disposal of any material impregnated with solvent or solvent solution used for cleaning. Records of the volume of virgin solvent used per month, VOC content in pounds of VOC per gallon or VOC composite pressure are required, if applicable to the option chosen for achieving compliance.

In addition, accurate definitions of “tote tank” and “wipe cleaning” have been added to properly implement these rules.

These cleaning solvent requirements are therefore approvable because they are consistent with EPA guidance and require adequate recordkeeping.

Wisconsin has also adopted SOCMI air oxidation, distillation and reactor regulations in NR 421.07. NR 421.07(1)(a)(intro) specifies that these SOCMI requirements apply to any facility that is located in the Milwaukee-Racine and Sheboygan areas that operates a SOCMI air oxidation unit, distillation operation, or reactor process, as those activities are defined in NR 440.675(2)(c), 440.686(2)(e) and 440.705(2)(o), respectively, to produce any chemical as a product, coproduct, byproduct or intermediate that is listed in the CTGs for these categories.

Affected facilities must comply with subsections (a), (b), or (c), from NR 440.675(3), NR 440.686(3), and NR 440.705(3) for each vent stream.

(a) Reduce emissions of total organic compounds (TOC) (minus methane and ethane) by 98 weight-percent or to a TOC (minus methane and ethane) concentration of 20 parts per million by volume (ppmv) on a dry basis corrected to 3% oxygen, whichever is less stringent. If a boiler or process heater is used to comply with this paragraph, then the vent stream shall be introduced into the flame zone of the boiler or process heater; or

(b) Combust the emissions in a flare that complies with the flare requirements in EPA's new source performance standards; or

(c) Maintain a total resource effectiveness (TRE) index value greater than 1.0 without use of VOC emission control devices. TRE is a measure of the supplemental total resource requirement (or cost-effectiveness) per unit reduction of TOC associated with an individual vent stream, based on vent stream flow rate, emission rate of TOC, net heating value and corrosion properties, whether or not the vent stream is halogenated.

Wisconsin's SOCMI applicability criteria and control requirements are consistent with EPA's CTGs and are therefore approvable.

NR 422—Control of Organic Compound Emissions From Surface Coating, Printing and Asphalt Surfacing Operations

NR 422.02—Definitions—Wisconsin has added several definitions that are needed to properly implement its coating and printing rules. These definitions are necessary and accurate and are therefore approvable.

NR 422.05—Can Coating

Wisconsin has amended its can coating rules to incorporate the industrial solvent cleaning requirements from the industrial solvent cleaning CTG. These requirements apply to any can coating facility with VOC emissions from all industrial cleaning operations which equal or exceed three tons per year on a 12 consecutive month rolling basis.

With the exception of cleaning of heptane-containing end sealant application equipment lines (at 5.8 pounds VOC/gallon) and cleaning of metal can identification ink application equipment (at 7.4 pounds VOC/gallon), cleaning solvent must not exceed a VOC content limit of 0.42 pounds VOC/gallon, as specified in the CTG. Based upon information submitted by the Can Manufacturers Institute, EPA agrees that the higher limits represent RACT. In lieu of complying with these VOC content limits, an alternative limit of 8 mm Hg (and 10 mm Hg for heptane-containing end sealant application equipment lines) is consistent with the CTG.

The CTG also references the solvent cleaning requirements in the South Coast Air Quality Management District's (SCAQMD)—in the Los Angeles area—solvent cleaning rules. These rules are therefore considered to satisfy RACT. Wisconsin has included several cleaning device and method requirements as well as storage, disposal and transport requirements from the SCAQMD's Rule 1171. Wisconsin's rule also has adequate recordkeeping requirements. The additions to Wisconsin's can coating rule are therefore approvable.

NR 422.06—Coil Coating

Wisconsin has amended its coil coating rules to incorporate the industrial solvent cleaning requirements from the industrial solvent cleaning CTG. These requirements apply to any coil coating facility with VOC emissions from all industrial cleaning operations which equal or exceed three tons per year on a 12 consecutive month rolling basis.

As specified in the CTG, cleaning solvent must not exceed a VOC content limit of 0.42 pounds VOC/gallon. In lieu of complying with this VOC content limit, an alternative limit of 8 mm Hg is also consistent with the CTG.

The CTG also references the solvent cleaning requirements in the SCAQMD solvent cleaning rules. Wisconsin has included several cleaning device and method requirements as well as storage, disposal and transport requirements from the SCAQMD's Rule 1171. Wisconsin's rule also has adequate recordkeeping requirements. The additions to Wisconsin's coil coating rule are therefore approvable.

NR 422.075—Paper Coating—Part 2

This section has been added to be consistent with EPA's 2007 CTG for Paper, Film, and Foil Coatings. Wisconsin's VOC content limits are 0.20 pounds VOC/pound of solids applied for pressure sensitive tape and label surface coatings, and 0.40 pounds VOC/pound solids applied for all other paper coatings, which are consistent with the CTG. When compliance is achieved by the use of add-on control, the required overall control efficiency of 90 percent is also consistent with the CTG. Wisconsin's paper coating rule also contains work practices to minimize VOC emissions from mixing operations, storage tanks, and other containers, and handling operations for coatings, thinners, cleaning materials and waste materials. The requirements in this section are approvable because they are consistent with the subject CTG.

NR 422.08—Fabric and Vinyl Coating

Wisconsin has amended its fabric and vinyl coating rules to incorporate the industrial solvent cleaning requirements from the industrial solvent cleaning CTG. These requirements apply to any fabric and vinyl coating facility with VOC emissions from all industrial cleaning operations which equal or exceed three tons per year on a 12 consecutive month rolling basis.

As specified in the CTG, cleaning solvent must not exceed a VOC content limit of 0.42 pounds VOC/gallon. In lieu of complying with this VOC content limit, an alternative limit of 8 mm Hg is also consistent with the CTG.

The CTG also references the solvent cleaning requirements in the SCAQMD solvent cleaning rules. Wisconsin has included several cleaning device and method requirements as well as storage, disposal and transport requirements from the SCAQMD's Rule 1171. Wisconsin's rule also has adequate recordkeeping requirements. The additions to Wisconsin's fabric and vinyl coating rule are therefore approvable.

NR 422.083—Plastic Parts Coating

This section has been amended to include the cleaning material work practices in EPA's 2008 CTG for Miscellaneous Metals and Plastic Parts Coating. These work practices include storing all VOC-containing cleaning materials and shop towels used for cleaning in closed containers and minimizing emissions of VOC during cleaning of coating application, storage, mixing, and conveying equipment by ensuring that cleaning is performed without atomizing any VOC-containing cleaning material and that the used material is captured and contained. These work practices satisfy Wisconsin's requirement to have acceptable cleaning solvent requirements for plastic parts coating operations and are approvable.

NR 422.09—Automobile and Light-Duty Truck Manufacturing

This section has been amended to include the cleaning material work practices in EPA's 2008 CTG for Automobile and Light-Duty Truck Assembly Coatings. A subject facility must develop and implement a work practice plan to minimize VOC emissions from cleaning and purging of equipment associated with all coating operations. This plan must specify practices and procedures for vehicle body wiping, coating line purging, flushing of coating systems, cleaning of spray booth grates, walls and equipment as well as external spray booth areas. These work practices satisfy Wisconsin's requirement to have acceptable cleaning solvent requirements for automobile and light-duty truck assembly coatings operations and are approvable.

NR 422.095—Automobile Refinishing Operations

Wisconsin has amended its automobile refinishing operations rules to incorporate the industrial solvent cleaning requirements from the industrial solvent cleaning CTG. These requirements apply to any automobile refinishing facility with VOC emissions from all industrial cleaning operations which equal or exceed three tons per year on a 12 consecutive month rolling basis.

As specified in the CTG, cleaning solvent must not exceed a VOC content limit of 0.42 pounds VOC/gallon. In lieu of complying with this VOC content limit, an alternative limit of 8 mm Hg is also consistent with the CTG.

The CTG also references the solvent cleaning requirements in the SCAQMD solvent cleaning rules. Wisconsin has included several cleaning device and method requirements as well as storage, disposal and transport requirements from the SCAQMD's Rule 1171. Wisconsin's rule also has adequate recordkeeping requirements. The additions to Wisconsin's automobile refinishing rule are therefore approvable.

NR 422.105 Furniture Metal Coatings—Part 2

This section has been added to be consistent with EPA's 2007 CTG for Metal Furniture Coatings. Wisconsin's VOC content limits, e.g. 2.3 pounds VOC/gallon for general, one component coatings, are consistent with the CTG. When compliance is achieved by the use of add-on control, the required overall control efficiency of 90 percent is also consistent with the CTG. Wisconsin's metal furniture coating rule also contains work practices to minimize VOC emissions from mixing operations, storage tanks, and other containers, and handling operations for coatings, thinners, cleaning materials and waste materials. The requirements in this section are approvable because they are consistent with the subject CTG.

NR 422.115 Surface Coating of Large Appliance—Part 2

This section has been added to be consistent with EPA's 2007 CTG for Large Appliance Coatings. Wisconsin's VOC content limits, e.g. 2.3 pounds VOC/gallon for general, one component coatings, are consistent with the CTG. When compliance is achieved by the use of add-on control, the required overall control efficiency of 90 percent is also consistent with the CTG. Wisconsin's large appliance coating rule also contains work practices to minimize VOC emissions from mixing operations, storage tanks, and other containers, and handling operations for coatings, thinners, cleaning materials and waste materials. The requirements in this section are approvable because they are consistent with the subject CTG.

NR 422.125 Wood Furniture Coating

Wisconsin's wood furniture coating rule has been amended to include cleaning material work practices that are consistent with EPA's 1996 CTG for the Control of VOC Emissions from Wood Furniture Manufacturing Operations. The 25 tons per year potential applicability cutoff has been revised to include the emissions from any related cleaning activities. These cleaning material work practices include storing VOC containing materials in closed containers, collecting all VOC-containing cleaning material used to clean spray guns and spray gun lines in a container and keeping the container covered except when adding or removing material, controlling emissions of VOC containing material from washoff operations and using strippable spray booth materials containing no more than 0.8 pounds of VOC per pound of solids. These work practices are consistent with the wood furniture CTG and are approvable.

NR 422.127 Use of Adhesives

Wisconsin's adhesives rule has been amended to include cleaning material work practices that are consistent with EPA's 2008 CTG for Miscellaneous Industrial Adhesives. These work practices include storing all VOC-containing cleaning materials in closed containers and minimizing emissions of VOC during cleaning of coating application, storage, mixing, and conveying equipment by ensuring that cleaning is performed without atomizing any VOC containing cleaning material and that the used material is captured and contained. An applicability cutoff of three tons on a 12 consecutive month rolling basis has also been added. These work practices are consistent with the miscellaneous industrial adhesives CTG and are approvable.

NR 422.131 Flat Wood Panel Coating—Part 2

This section has been added to be consistent with EPA's 2006 CTG for Flat Wood Paneling Coatings. Wisconsin's VOC content limit is 2.1 pounds VOC/gallon, which is consistent with the CTG. When compliance is achieved by the use of add-on control, the required overall control efficiency of 90 percent is also consistent with the CTG. Wisconsin's flat wood paneling rule also contains work practices to minimize VOC emissions from mixing operations, storage tanks, and other containers, and handling operations for coatings, thinners, cleaning materials and waste materials. The requirements in this section are approvable because they are consistent with the subject CTG.

NR 422.14 Graphic Arts

Wisconsin has amended its graphic arts rule to incorporate the industrial solvent cleaning requirements from the industrial solvent cleaning CTG. These requirements apply to any (non-flexible packaging) graphic arts facility with VOC emissions from all industrial cleaning operations which equal or exceed three tons per year on a 12 consecutive month rolling basis.

As specified in the CTG, cleaning solvent must not exceed a VOC content limit of 0.42 pounds VOC/gallon—except for a 0.83 pounds VOC/gallon limit for cleaning of publication rotogravure ink application equipment and a 5.4 pounds VOC/gallon limit for cleaning of ultraviolet ink application equipment. The latter two limits are based on the SCAQMD's Rule 1171, discussed above. In lieu of complying with these VOC content limits, an alternative limit of 8 mm Hg is also consistent with the CTG. Wisconsin has included several cleaning device and method requirements as well as storage, disposal and transport requirements from the SCAQMD's Rule 1171. Wisconsin's rule also has adequate recordkeeping requirements. The additions to Wisconsin's graphic arts rule are therefore approvable.

NR 422.141—Flexible Package Printing

These regulations have been revised based on and are consistent with EPA's 2006 CTG for Flexible Packaging Printing Materials. Subject printing lines may comply by meeting limits of 0.8 pounds VOC per pound of solids applied or 0.16 pounds VOC per pound of ink and coatings applied. Alternatively, compliance can be achieved by the use of add-on control achieving an overall reduction in VOM emissions ranging from 65 percent to 80 percent, depending upon when the printing line and control device were constructed. Work practices to reduce emissions from the use of VOM containing cleaning materials are also required. These work practices require that solvents used in cleaning operations be stored in covered containers and that VOC-containing cleaning material be conveyed in closed containers or pipes. The requirements in this section are approvable because they are consistent with the subject CTG.

NR 422.143 Lithographic Printing—Part 2

These regulations are based on and are consistent with EPA's 2006 CTG for Lithographic Printing. The control requirements for cleaning materials and fountain solutions apply if the combined emissions of VOC exceed three tons on a 12 consecutive month rolling basis. The add-on control requirements for heatset web offset printing operations apply if the potential emissions of VOC from a lithographic press dryer equal or exceed 25 tons per year. The fountain solution is subject to a percent VOC limit, based upon the temperature and whether or not the fountain solution contains alcohol. The cleaning materials (blanket or roller wash) must not exceed 30 percent by weight (nor equal or exceed 70 percent by weight for ultraviolet ink application equipment) VOC or the VOC composite partial pressure must be less than or equal to 10 mm Hg. An add-on control device on a subject heatset dryer must achieve a 90 percent or 95 percent reduction of VOC emissions, depending on the installation date of the add-on control device, or alternatively can comply by not exceeding an outlet concentration of 20 ppmv, as carbon. Recordkeeping requirements are also specified to establish compliance with the applicable limits. The requirements in this section are approvable because they are consistent with the subject CTG.

NR 422.144 Letterpress Printing

These regulations are based on and are consistent with EPA's 2006 CTG for Letterpress Printing. The control requirements for cleaning materials apply if the combined emissions of VOC exceed three tons on a 12 consecutive month rolling basis. The add-on control requirements for heatset web letterpress printing operations apply if the potential emissions of VOC from a lithographic press dryer equal or exceed 25 tons per year. The cleaning materials (blanket or roller wash) must not equal or exceed 70 percent by weight VOC or the VOC composite partial pressure must be less than 10 mm Hg. An add-on control device on a subject heatset dryer must achieve a 90 percent or 95 percent reduction of VOM emissions, depending on the installation date of the add-on control device. Recordkeeping requirements are also specified to establish compliance with the applicable limits. The requirements in this section are approvable because they are consistent with the subject CTG.

NR 422.145 Screen Printing

Wisconsin has amended its screen printing rules to incorporate the industrial solvent cleaning requirements in the CTG for Industrial Cleaning Solvents. These requirements apply to any screen printing facility with VOC emissions from all industrial cleaning operations which equal or exceed three tons per year on a 12 consecutive month rolling basis.

As specified in the CTG, cleaning solvent must not exceed a VOC content limit of 0.42 pounds VOC/gallon. However, the CTG also references the solvent cleaning requirements in the SCAQMD solvent cleaning rules. As a result of SCAQMD limits that were in place at the time that EPA's CTG was issued, Wisconsin has adopted 4.2 pounds VOC/gallon limits for repair or maintenance cleaning and cleaning of ink application equipment. In lieu of complying with these VOC content limits, an alternative limit of 8 mm Hg is also consistent with the CTG.

Wisconsin has included several cleaning device and method requirements as well as storage and disposal requirements from the SCAQMD's Rule 1171. Wisconsin's rule also has adequate recordkeeping requirements. The additions to Wisconsin's screen printing rule are therefore approvable.

NR 422.15 Miscellaneous Metal Parts and Products

This section has been amended to include the cleaning material work practices in EPA's 2008 CTG for Miscellaneous Metals and Plastic Parts Coating. These work practices include storing all VOC-containing cleaning materials and shop towels used for cleaning in closed containers and minimizing emissions of VOC during cleaning of coating application, storage, mixing, and conveying equipment by ensuring that cleaning is performed without atomizing any VOC-containing cleaning material and that the used material is captured and contained. These work practices satisfy Wisconsin's requirement to have acceptable cleaning solvent requirements for miscellaneous metal parts and products coating operations and are approvable.

NR 422.15 Fire Truck and Emergency Response Vehicle Manufacturing

This section (a subset of miscellaneous metals) has been amended to include the cleaning material work practices in EPA's 2008 CTG for Miscellaneous Metals and Plastic Parts Coating. These work practices include storing all VOC-containing cleaning materials and shop towels used for cleaning in closed containers and minimizing emissions of VOC during cleaning of coating application, storage, mixing, and conveying equipment by ensuring that cleaning is performed without atomizing any VOC-containing cleaning material and that the used material is captured and contained. These work practices satisfy Wisconsin's requirement to have acceptable cleaning solvent requirements for miscellaneous metal parts and products coating operations and are approvable.

NR 423—Control of Organic Compound Emissions From Solvent Cleaning Operations

NR 423.02—Definitions

Wisconsin has added definitions of “Flexible magnetic data storage disc” and “Rigid magnetic data storage disc” because these terms are used in its industrial cleaning operations rule. These terms are accurately defined and are therefore approvable.

NR 423.037 Industrial Cleaning Operations—Part 2

Wisconsin has added an industrial solvent cleaning rule to incorporate the industrial solvent cleaning requirements, from the industrial solvent cleaning CTG, for those source categories whose rules do not contain such solvent cleaning requirements. These requirements apply to any such facility having actual VOC emissions from industrial cleaning operations which equal or exceed three tons per year on a 12 consecutive month rolling basis.

As specified in the CTG, cleaning solvents must not exceed a VOC content limit of 0.42 pounds VOC/gallon as well as several specialty cleaning limits based on limits in SCAQMD's Rule 1171 that were in place at the time that EPA's CTG was issued. In lieu of complying with these VOC content limits, an alternative limit of 8 mm Hg is also consistent with the CTG.

Wisconsin has included several cleaning device and method requirements as well as storage, disposal and transport requirements from the SCAQMD's Rule 1171. Wisconsin's rule also has adequate recordkeeping requirements. The additions to Wisconsin's graphic arts rule are therefore approvable.

NR 439 Reporting, Recordkeeping, Testing, Inspection and Determination of Compliance Requirements

NR 439.04 Recordkeeping

Wisconsin amended its recordkeeping requirements for exempt sources (in NR 439.04(4)) to include the VOC emissions from cleaning operations, when necessary, in addition to the VOC emissions from coating or printing lines. Wisconsin also added a requirement that the maximum theoretical emissions be determined from the dryer of each heatset web lithographic or letterpress printing press. A requirement for detailed records of solvent use in solvent cleaning activities was also added.

Wisconsin added monitoring and recordkeeping requirements (in NR 439.04(6)) for when add-on control equipment is used to comply with solvent cleaning requirements.

The recordkeeping requirements in NR 439.04, as amended, along with the recordkeeping requirements in the coating and printing rules in NR 422 adequately establish the applicability and compliance requirements of the rules and are therefore approvable.

NR 484—Incorporation by Reference

Wisconsin has also updated its Incorporation by Reference Chapter, including CFR appendices, National Technical Information Service, other government organizations, the American Society for Testing and Materials and other private organizations.

V. Statutory and Executive Order Reviews

Under the Act, the Administrator is required to approve a SIP submission that complies with the provisions of the Act and applicable Federal regulations. 42 U.S.C. 7410(k); 40 CFR 52.02(a). Thus, in reviewing SIP submissions, EPA's role is to approve state choices, provided that they meet the criteria of the Act. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Act; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the State, and EPA notes that it will not impose substantial direct costs on tribal governments or preempt tribal law.

List of Subjects in 40 CFR Part 52

Environmental protection, Air pollution control, Intergovernmental relations, Ozone, Reporting and recordkeeping requirements, Volatile organic compounds.

Dated: February 9, 2012.
Susan Hedman,
Regional Administrator, Region 5.

[FR Doc. 2012-4171 Filed 2-21-12; 8:45 am]

BILLING CODE 6560-50-P